SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 29, 2010.

ADDRESSES: Send all comments regarding whether this information collection is necessary for the proper performance of the function of the agency, whether the burden estimates are accurate, and if there are ways to minimize the estimated burden and enhance the quality of the collection, to Sheila Thomas, Office of Business Development, Small Business Administration, 409 3rd Street, 8th Floor, Washington, DC 20416.

FOR FURTHER INFORMATION CONTACT: Sheila Thomas, mail to: Office of Business Development, 202-205-5852 sheila.thomas@sba.gov Curtis B. Rich, Management Analyst, 202-205-7030 curtis.rich@sba.gov.

SUPPLEMENTARY INFORMATION: This Form will be an Addendum to the 8(a) Annual Update Form (SBA Form 1450). The Section 8(a) Business Development (BD) Program was designed by Congress to provide socially and economically disadvantaged businesses with management and technical assistance to enhance their ability to compete in the American marketplace. The 8(a) Program utilizes various forms of assistance (e.g. procurement, financial, and management and technical assistance through 7(j) designated funds) to foster the business growth and development of 8(a) Program participants.

In an effort to refocus the 8(a) Business Development Program to emphasize “business development” the SBA developed the 8(a) Business Development Assessment Tool (BDAT) that will be completed by the 8(a) Participant as part of the Annual Review Update process. The BDAT is an electronic questionnaire (which consists of topics ranging from general business questions to legal land insurance, business planning, financing, marketing and business operations) that allows the 8(a) firm to answer a series of questions on a number of management and business skills. The 8(a) firm is then asked to rate their need for management and technical assistance in the specific skill area and a customized plan that addresses the firms' stated needs is created.

Title: “8(a) Annual Update Addendum.”

Description of Respondents: Annually.

Form Numbers: N/A.

Annual Responses: 7,644.

Annual Burden: 15,288.

Jacqueline White,
Chief, Administrative Information Branch.

[FR Doc. 2010-1445 Filed 1-25-10; 8:45 am]

BILLING CODE 8025-01-P